DEPARTMENT OF TRANSPORTATION

Federal Railroad Administration

[Docket Number FRA-2023-0095]

Petition for Waiver of Compliance

Under part 211 of title 49 Code of Federal Regulations (CFR), this document provides the public notice that on October 17, 2023, Amtrak petitioned the Federal Railroad Administration (FRA) for a waiver of compliance from certain provisions of the Federal railroad safety regulations contained at 49 CFR part 229 (Railroad Locomotive Safety Standards). FRA assigned the petition Docket Number FRA-2023-0095.

Amtrak's petition seeks FRA approval to install on its locomotive fleet, equipment designed to improve shunting of railroad track circuits and reduce the potential for a loss of shunt (LoS) incident (a shunt enhancer antenna). LoS within a track circuit causes a signal system or grade crossing system to not detect the presence of a train, significantly increasing the risk of train-to-train collisions and crossing accidents. Known causes of LoS include contaminants on the wheel or rail and locomotive weight, with contributing factors including the number of axles in a train, train speed, wheel profile, and weather. FRA recognizes that a LoS event is a significant safety concern, resulting in both activation failures at equipped highway-rail grade crossings and false proceed signals.

Over the last five years, an industry-led working group, the LoS Committee, supported by FRA, has expended significant effort and funding to investigate LoS events, evaluate LoS causes, identify potential solutions, and to test those solutions. The shunt enhancer antenna has been identified, tested, and recommended by the LoS Committee. The LoS Committee confirmed that the shunt enhancer antenna “reliably demonstrate[s] improvement of a vehicle's interaction with the wayside track circuits.”

Amtrak seeks relief from 49 CFR 229.71, Clearance above top of rail, to implement the locomotive-mounted shunt enhancer antenna. Section 229.71 states that no part or appliance of a locomotive (excepting “the wheels, flexible nonmetallic sand pipe extension tips, and trip cock arms”) may be within 2.5 inches from the top of rail. Amtrak seeks to install the shunt enhancers on its fleet of Siemens Charger SF4 locomotives. Amtrak explains that under conditions of worn wheels and dynamic profiles, the mechanical and electrical hardware of the truck-mounted antenna devices could protrude below 2.5 inches from the top of rail.

FRA understands the proposed shunt enhancer antenna is a truck-mounted antenna that injects a 2-4 amp, 165kHz signal into the rail.

A copy of the petition, as well as any written communications concerning the petition, is available for review online at www.regulations.gov.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted at www.regulations.gov. Follow the online instructions for submitting comments.

Communications received by June 18, 2024 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2024-08365 Filed 4-18-24; 8:45 am]

BILLING CODE 4910-06-P